PEACE CORPS

Notice To Add a New System of Records

SUMMARY: As required under the Privacy Act of 1974, (5 U.S.C. 552a), as amended, the Peace Corps is giving notice of a new system of records titled Shriver E.

DATES: This action will be effective without further notice on February 19, 2008, unless comments are received by February 1, 2008, that would result in a contrary determination.

ADDRESSES: You may submit comments by e-mail to sglasow@peacecorps.gov. Include Privacy Act System of Records in the subject line of the message. You may also submit comments by mail to Suzanne Glasow, Office of the General Counsel, Peace Corps, Suite 8200, 1111 20th Street, NW., Washington, DC 20526. Contact Suzanne Glasow for copies of comments.

FOR FURTHER INFORMATION CONTACT: Suzanne Glasow, Associate General Counsel, 202-692-2150, sglasow@peacecorps.gov.

SUPPLEMENTARY INFORMATION: The Privacy Act, 5 U.S.C. 552a, provides that the public will be given a 30-day period in which to comment on the new system. The Office of Management and Budget (OMB), which has oversight responsibility under the Act, requires a 40-day period in which to review the proposed system. In accordance with 5 U.S.C. 552a, Peace Corps has provided a report on this system to OMB and the Congress.

System name:

PC-30, Shriver E.

System location:

Chief Information Officer, Peace Corps, 1111 20th St., NW., Washington, DC 20526.

Categories of individuals covered by the system:

Prospective applicants, school administrators, and the general public.

Categories of records in the system:

First name, last name, email address, the zip code, city and state.

Authority for maintenance of the system (includes any revisions or amendments):

Peace Corps Act, 22 U.S.C. 2501 et seq.

Purpose:

This system allows Peace Corps staff to host online meetings over the Internet. Known as web-conferences, these meetings allow Peace Corps staff to converse, give presentations, show videos, chat with participants in the meeting.

Name and e-mail addresses are collected so that the Web-conference instructions and logon information can be emailed to the participants. First names and last names are used to identify users when they log into the Web-conferencing meeting. City, State and Zip code are used to track geographic locations of attendees for the purpose of analyzing attendance trends.

Routine uses of records maintained in the system:

Peace Corps general routine uses A, H, I, K, L and M.

Policies and practices for storing, retrieving, accessing, retaining, and disposing of records in the system:

Storage: In a computerized database.

Retrievability:

By first name, last name, email address, the zip code, city and state.

Safeguards:

Computer records are maintained in a secure, password-protected computer system. All records are maintained in secure, access-controlled areas or buildings.

Retention and disposal:

The information is deleted from the system every six months. Ninety-days after deletion, the information is physically deleted from the servers. Data is deleted from all backup tapes once they are overwritten via incremental backup, six months after the time it is collected.

System Managers:

Chief Information Officer, Peace Corps Headquarters in Washington, DC 20526.

Procedures for notification, access, and contesting:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

Record source categories:

Record subject.

Exemptions Claimed For The System:

None.

Dated: December 27, 2007.
Garry Stanberry,
Deputy Associate Director, Management.

[FR Doc. E7-25511 Filed 12-31-07; 8:45 am]

BILLING CODE 6051-01-P